DEPARTMENT OF ENERGY

National Petroleum Council

AGENCY: Department of Energy, Office of Fossil Energy.

ACTION: Notice of open meeting.

SUMMARY: This notice announces a meeting of the National Petroleum Council. The Federal Advisory Committee Act (Pub. L. 92-463, 86 Stat. 770) requires that public notice of this meeting be announced in the Federal Register.

DATES: Thursday, September 17, 2009, 9 a.m.-12 noon.

ADDRESSES: St. Regis Hotel, 923 16th and K Streets, NW., Washington, DC 20006.

FOR FURTHER INFORMATION CONTACT: Nancy Johnson, U.S. Department of Energy, Office of Oil and Natural Gas (FE-30), Washington, DC 20585. Phone: 202-586-5600.

SUPPLEMENTARY INFORMATION:

Purpose of the Committee: To provide advice, information, and recommendations to the Secretary of Energy on matters relating to oil and natural gas, or the oil and natural gas industry.

Tentative Agenda

• Call to Order and Introductory Remarks

• Remarks by the Honorable Steven Chu, Secretary of Energy (invited)

• Guest Speaker (to be determined)

• Administrative Matters

• Discussion of Any Other Business Properly Brought Before the Council

• Adjournment

Public Participation: The meeting is open to the public. The Chairman of the Council and the Designated Federal Officer will conduct the meeting to facilitate the orderly conduct of business. Any member of the public who wishes to file a written statement to the Council will be permitted to do so, either before or after the meeting. Members of the public who wish to make oral statements pertaining to agenda items should contact Nancy Johnson at the address or telephone number listed above. Request must be received at least five days prior to the meeting and reasonable provisions will be made to include the presentation on the agenda.

Transcripts: Available for public review and copying at the Public Reading Room, Room 1G-033, Forrestal Building, 1000 Independence Avenue, SW., Washington, DC, between 9 a.m. and 4 p.m., Monday through Friday, except federal holidays.

Issued at Washington, DC, on August 27, 2009.
Rachel Samuel,
Deputy Committee Management Officer.

[FR Doc. E9-21177 Filed 9-1-09; 8:45 am]

BILLING CODE 6450-01-P